GENERAL SERVICES ADMINISTRATION

48 CFR Parts 501 and 552

[GSAR Case 2024-G502; Docket No. GSA-GSAR-2024-0022; Sequence No. 1]

RIN 3090-AK81

General Services Administration Acquisition Regulation (GSAR); Update to OMB Approval Table

AGENCY: Office of Acquisition Policy, General Services Administration (GSA).

ACTION: Final rule.

SUMMARY: The General Services Administration is issuing this final rule to the General Services Administration Acquisition Regulation to correct and update the table of approved acquisition related information collection number references from the Office of Management and Budget under the Paperwork Reduction Act.

DATES: Effective: January 27, 2025.

FOR FURTHER INFORMATION CONTACT: For clarification of content, contact Ms. Adina Torberntsson, Procurement Analyst, at gsarpolicy@gsa.gov or 720-475-0568. For information pertaining to status or publication schedules, contact the Regulatory Secretariat at GSARegSec@gsa.gov or 202-501-4755. Please cite GSAR Case 2024-G502.

SUPPLEMENTARY INFORMATION:

I. Background

During its normal regulatory review, GSA discovered that several of the Office of Management and Budget (OMB) Control Numbers (No.) listed in the General Services Administration Acquisition Regulation (GSAR) reference table at 501.106 were either omitted, incorrect, or had been updated (i.e., Federal Acquisition Regulation (FAR) OMB Control Nos. (9000 series) that are applicable to GSA acquisition requirements). For any OMB Control No. added to the table via this final rule, an approved OMB Control No. already existed. However, the approved OMB Control No. was simply not reflected at 501.106 as intended.

Miscellaneous Updates to GSAR 501.106, Table 1

GSAR 511.171 and the corresponding OMB Control No. 3090-0300 are added to the table.

GSAR 511.204(c) is updated to remove the paragraph (c); it will now read as 511.204.

GSAR 514.201-1 is updated to remove the subsection 1; it will now read as 514.201.

GSAR 515.209-70(b) is updated to remove the subsection 70; it will now read as 515.209.

GSAR 516.506 is updated to add OMB Control No. 3090-0163.

GSAR 516.506 and the corresponding OMB Control Numbers are updated to reflect the inclusion of 3090-0163. The other OMB Control Nos. associated with GSAR 516.506 remain the same.

GSAR 532.111 and the corresponding OMB Control No. 3090-0080 are added to the table.

GSAR 532.908 and the corresponding OMB Control No. 3090-0080 are added to the table.

GSAR 536.572 and the corresponding OMB Control No. 3090-0308 are added to the table.

GSAR 536.7002-4 and the corresponding OMB Control No. 3090-0274 are added to the table.

GSAR 536.7107 and the corresponding OMB Control No. 3090-0320 are added to the table.

GSAR 538.273 and the corresponding OMB Control Numbers are updated to reflect the removal of 3090-0262, and the inclusion of 3090-0248 and 3090-0302. The other OMB Control Nos. associated with GSAR 538.273 remain the same.

GSAR 546.302-71 is updated to remove the subsection 71; it will now read as 546.302.

Clause 552.204-9 and the corresponding OMB Control Nos. 3090-0283 and 3090-0287 are added to the table.

Clause 552.211-13(a) is updated to remove the paragraph (a); it will now read as 552.211-13.

Clause 552.211-70(b) is updated to remove the paragraph (b) and revise the OMB Control No.; it will now be read as 552.211-70 with OMB Control No. 9000-0062.

Clause 552.232-5 is updated with the corresponding OMB Control Nos. 9000-0070 and 9000-0102 removed and replaced with 9000-0073. The other OMB Control No. associated with 552.232-5 remains the same.

Clause 552.223-70 is changed to clause 552.223-72, which is associated with OMB Control No. 3090-0205.

Clause 552.236-15 is updated with the corresponding OMB Control No. changed to 9000-0062.

Clause 552.238-74 and the corresponding OMB Control No. 3090-0250 are added to the table.

Clause 552.238-77 and the corresponding OMB Control No. 3090-0250 are added to the table.

Clause 552.238-85 and the corresponding OMB Control Nos. 3090-0235 and 3090-0306 are added to the table.

Clause 552.238-86 and the corresponding OMB Control No. 3090-0250 are added to the table.

Clause 552.238-91 and the corresponding OMB Control No. 3090-0250 are added to the table.

Clause 552.238-100 and the corresponding OMB Control No. 3090-0250 are added to the table.

Clause 552.238-103 and the corresponding OMB Control No. 3030-0248 are added to the table.

Clause 552.238-104 and the corresponding OMB Control No. 3090-0250 are added to the table.

Clause 552.238-107 and the corresponding OMB Control No. 3090-0250 are added to the table.

Clause 552.238-108 and the corresponding OMB Control No. 3090-0250 are added to the table.

Provision 552.238-118 and corresponding OMB Control No. 3090-0303 are added to the table.

Clause 552.238-119 and the corresponding OMB Control No. 3090-0303 are added to the table.

Provision 552.270-1 and the corresponding OMB Control No. 3090-0086 are added to the table.

GSAR 570.117 and the corresponding OMB Control No. 3090-0086 are added to the table.

GSAR 570.702 and the corresponding OMB Control No. 3090-0086 are added to the table.

GSAR 570.703(c) is updated to remove the paragraph (c); it will now read as 570.703.

GSAR 570.802(b) and (c) are updated to remove the paragraphs (b) and (c); it will now read as 570.802.

GSA Form GSA-176 and its corresponding OMB Control No. 3090-0287 are added to the table.

GSA Form GSA-308 and its corresponding OMB Control No. 3090-0027 are added to the table.

GSA Form GSA-850 and its corresponding OMB Control No. 3090-0283 are added to the table.

GSA Form GSA-2419 is updated with the corresponding OMB Control No. changed to 9000-0073.

GSA Form GSA-3665 and its corresponding OMB Control No. 3090-0283 are added to the table.

Lastly, GSA Form GSA-7437 and its corresponding OMB Control No. 3090-0274 are added to the table. OMB Control No. Update to GSAR Provision 552.270.1.

Further review identified that the OMB Control No. referenced in GSAR provision 552.270-1 was incorrect.

The current OMB Control No. 3090-0163 referenced in GSAR provision 552.270-1(f) is not accurate and is not needed in the provision. This OMB Control No. applies to procurement-related information collections associated with solicitations issued for various supplies and services in accordance with the Federal Acquisition Regulation (FAR) Part 12, 14, 15 and 16 procedures.

3090-0163 was therefore replaced with OMB Control No. 3090-0086 in the table at 501.106 as it is specific to GSA lease solicitation information, which is used to obtain information about property being offered for lease to house Federal agencies and to obtain pricing information regarding offered services and lease commissions. Therefore, OMB Control No. 3090-0086 is more appropriate for the GSAR prescription 570.702 and GSAR provision 552.270-1.

GSAR provision 552.270-1 is amended to remove the paragraph (f), which currently references the incorrect OMB Control No. Additionally, including an OMB Control No. is not a normal convention for a provision or clause; therefore, to be consistent with GSAR provisions and clauses, this paragraph is removed.

II. Publication of This Final Rule for Public Comment Is Not Required

The statute that applies to the publication of the GSAR is the Office of Federal Procurement Policy statute (codified at title 41 of the United States Code). Specifically, 41 U.S.C. 1707(a)(1) requires that a procurement policy, regulation, procedure or form (including an amendment or modification thereof) must be published for public comment if it relates to the expenditure of appropriated funds, and has either a significant effect beyond the internal operating procedures of the agency issuing the policy, regulation, procedure, or form, or has a significant cost or administrative impact on contractors or offerors. This rule is not required to be published for public comment because GSA is not issuing a new regulation; rather, this rule is technical in nature and is merely updating information in the table located at GSAR 501.106 and removing an incorrect OMB Control No. reference at GSAR provision 552.270-1.

III. Executive Order 12866, 13563 and 14094

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. E.O. 14094 supplements and reaffirms the principles, structures, and definitions governing contemporary regulatory review established in E.O. 12866 and E.O. 13563. The Office of Information and Regulatory Affairs (OIRA) in the Office of Management and Budget (OMB) has determined this rule is not a significant regulatory action and, therefore, is not subject to review under section 6(b) of E.O. 12866, Regulatory Planning and Review, dated September 30, 1993.

IV. Congressional Review Act

The Congressional Review Act, 5 U.S.C. 801 et seq., as amended by the Small Business Regulatory Enforcement Fairness Act of 1996, generally provides that before a “major rule” may take effect, the agency promulgating the rule must submit a rule report, which includes a copy of the rule, to each House of the Congress and to the Comptroller General of the United States. The General Services Administration will submit a report containing this rule and other required information to the U.S. Senate, the U.S. House of Representatives, and the Comptroller General of the United States. A major rule cannot take effect until 60 days after it is published in the Federal Register. OIRA has determined this rule is not a “major rule” under 5 U.S.C. 804(2). The Office of Information and Regulatory Affairs in the Office of Management and Budget has determined that this is not a major rule under 5 U.S.C. 804.

V. Regulatory Flexibility Act

The Regulatory Flexibility Act (5 U.S.C. 601 et seq.) does not apply to this rule because an opportunity for public comment is not required to be given for this rule under 41 U.S.C. 1707(a)(1). Accordingly, no regulatory flexibility analysis is required and none has been prepared.

VI. Paperwork Reduction Act

The Paperwork Reduction Act (44 U.S.C. chapter 35) does apply; however these changes to the GSAR do not impose additional information collection requirements to the paperwork burden previously approved under the Office of Management and Budget Control Numbers referenced in the rule.

List of Subjects in 48 CFR Parts 501 and 552

Government procurement.

Jeffrey A. Koses,
Senior Procurement Executive, Office of Acquisition Policy, Office of Government-wide Policy, General Services Administration.

Therefore, GSA amends 48 CFR parts 501 and 552 as set forth below:

1. The authority citation for 48 CFR parts 501 and 552 continues to read as follows:

Authority: 40 U.S.C. 121(c).

2. In section 501.106, revise table 1 to read as follows:

501.106 OMB approval under the Paperwork Reduction Act.

* * * * *

Table 1 to 501.106
GSAR reference | OMB control No.
509.105-1 | 3090-0007
511.171 | 3090-0300
511.204 | 3090-0246
512.301 | 3090-0163
514.201 | 3090-0163
515.209 | 3090-0163
515.408 | 3090-0235
516.506 | 3090-0248, 3090-0306, 3090-0163
523.370 | 3090-0205
532.111 | 3090-0080
532.905-70 | 3090-0080
532.908 | 3090-0080
536.572 | 3090-0308
536.7002-4 | 3090-0274
536.7107 | 3090-0320
538.273 | 3090-0163, 3090-0235, 3090-0248, 3090-0250, 3090-0302, 3090-0303, 3090-0306
542.1107 | 3090-0027
546.302 | 3090-0027
552.204-9 | 3090-0283, 3090-0287
552.211-13 | 9000-0026
552.211-70 | 9000-0062
552.211-77 | 3090-0246
552.215-73 | 3090-0163
552.216-72 | 3090-0248
552.216-73 | 3090-0248
552.216-75 | 3090-0306
552.223-72 | 3090-0205
552.232-5 | 3090-0080, 9000-0073
552.232-72 | 3090-0080
552.236-15 | 9000-0062
552.236-72 | 3090-0308
552.236-79 | 3090-0320
552.236-80 | 9000-0034
552.238-72 | 3090-0163
552.238-73 | 3090-0250
552.238-74 | 3090-0250
552.238-77 | 3090-0250
552.238-78 | 3090-0262
552.238-80 | 3090-0235, 3090-0306
552.238-81 | 3090-0235, 3090-0306
552.238-82 | 3090-0302
552.238-83 | 3090-0235, 3090-0306
552.238-84 | 3090-0303
552.238-85 | 3090-0235, 3090-0306
552.238-86 | 3090-0250
552.238-87 | 3090-0303
552.238-91 | 3090-0250
552.238-95 | 3090-0303
552.238-96 | 3090-0303
552.238-97 | 3090-0303
552.238-99 | 3090-0303
552.238-100 | 3090-2050
552.238-103 | 3090-0248
552.238-104 | 3090-0250
552.238-107 | 3090-0250
552.238-108 | 3090-0250
552.238-111 | 3090-0303
552.238-118 | 3090-0303
552.238-119 | 3090-0303
552.238-120 | 3090-0235, 3090-0306
552.242-70 | 3090-0027
552.246-70 | 3090-0027
552.246-71 | 3090-0027
552.270-1 | 3090-0086
552.270-33 | 3090-0324
570-117 | 3090-0086
570-702 | 3090-0086
570.703 | 3090-0324
570.802 | 3090-0086
GSA-176 | 3090-0287
GSA-308 | 3090-0027
GSA-527 | 3090-0007
GSA-850 | 3090-0283
GSA-1142 | 3090-0080
GSA-1217 | 3090-0086
GSA-1364 | 3090-0086
GSA-1678 | 3090-0027
GSA-2419 | 9000-0102
GSA-3665 | 3090-0283
GSA-7437 | 3090-0274

PART 552—SOLICITATION PROVISIONS AND CONTRACT CLAUSES

3. Amend section 552-270-1 by—

a. Revising the date of the provision; and

b. Removing paragraph (f).

The revision reads as follows:

552.270-1 Instructions to Offerors—Acquisition of Leasehold Interests in Real Property.

* * * * *

Instructions to Offerors—Acquisition of Leasehold Interests in Real Property (JAN 2025)

* * * * *

[FR Doc. 2024-30670 Filed 12-26-24; 8:45 am]

BILLING CODE 6820-61-P